DEPARTMENT OF THE INTERIOR

Bureau of Indian Affairs

Liquor Ordinance of the Wichita and Affiliated Tribes

AGENCY: Bureau of Indian Affairs, Interior.

ACTION: Notice.

SUMMARY: This notice publishes the amended Liquor Ordinance of the Wichita and Affiliated Tribes (amended Ordinance). The amended Ordinance regulates and controls the possession, sale, and consumption of liquor within the Tribal lands. The Tribal lands are located in Indian country and this amended Ordinance allows for possession and sale of alcoholic beverages within their boundaries. This amended Ordinance will increase the ability of the Tribal government to control the community's liquor distribution and possession, and at the same time will provide an important source of revenue for the continued operation and strengthening of the Tribal government and the delivery of Tribal services.

DATES: Effective Date: This Amended Ordinance is effective on August 26, 2010.

FOR FURTHER INFORMATION CONTACT: Sherry Lovin, Tribal Government Services Officer, Southern Plains Regional Office, WCD Office Complex, P.O. Box 368, Anadarko, OK 73005, Telephone: (405) 247-1537, Fax (405) 247-9240; or Elizabeth Colliflower, Office of Indian Services, 1849 C Street, NW., Mail Stop 4513-MIB, Washington, DC 20240, Telephone: (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Executive Committee of the Wichita and Affiliated Tribes adopted its amended Liquor Ordinance by Resolution No. WT-10-31 on May 14, 2010. The purpose of this amended Ordinance is to govern the sale, possession, and distribution of alcohol within Tribal lands of the Tribe.

This notice is published in accordance with the authority delegated by the Secretary of the Interior to the Assistant Secretary—Indian Affairs. I certify that the Executive Committee of the Wichita and Affiliated Tribes adopted its amended Liquor Ordinance by Resolution No. WT-10-31 on May 14, 2010.

Dated: July 18, 2010.
Paul Tsosie,
Chief of Staff, Office of the Assistant Secretary—Indian Affairs.

The amended Liquor Ordinance of the Prairie Band Potawatomi Nation reads as follows:

Liquor Ordinance of the Wichita and Affiliated Tribes (Wichita, Keechi, Waco & Tawakonie)

Findings

The Wichita and Affiliated Tribes (Wichita, Keechi, Waco & Tawakonie) (“Tribe”) is a Federally recognized Indian Tribe, exercising jurisdiction over all Tribal Lands.

The Tribe's Governing Resolution, Article V, empowers the Executive Committee of the Tribe to promulgate ordinances and resolutions for the Tribe.

The sale of Liquor and Low-Point Beer, subject to the terms and provisions of this Liquor Ordinance and all applicable laws, will provide funds for the continued operation and strengthening of the Tribal government and the delivery of Tribal government services. It may also produce capital which the Tribe can use to further develop its economy.

The enactment of a Tribal Liquor Ordinance will also increase the ability of the Tribal government to control the distribution and possession of Liquor and Low-Point Beer within the Tribal Lands.

Now, Therefore, to permit the sale of Liquor subject to the necessary controls and to promote the health, safety and welfare of its members, the Executive Committee adopts this Liquor Ordinance

Introduction

101. Title. This Ordinance shall be known as the “Liquor Ordinance of the Wichita and Affiliated Tribes.”

102. Authority. This Liquor Ordinance is enacted pursuant to the Act of August 15, 1953 (Pub. L. No. 83-277, 67 Stat. 588 (codified at 18 U.S.C. § 1161) and the Governing Resolution of the Wichita and Affiliated Tribes approved on Aug. 8, 1961, as amended, and applicable laws.

103. Purpose. The purpose of this Liquor Ordinance is to regulate and to control the possession and sale of Liquor and Low-Point Beer to and within the jurisdiction of the Wichita and Affiliated Tribes. The enactment of a Tribal ordinance governing Liquor possession and sale within the Tribal Lands will increase the ability of the Tribal government to control Liquor distribution and possession, and provide an important source of revenue for the continued operation and strengthening of the Tribal government and the delivery of Tribal government services.

104. Jurisdiction. This Ordinance applies on all Tribal Lands.

Definitions

201. As used in this Liquor Ordinance, the following words shall have the following meanings unless the context clearly requires otherwise.

202. “Alcohol” means that substance known as ethyl alcohol, hydrated oxide of ethyl, or spirit or wine which is commonly produced by the fermentation or distillation of grain, starch, molasses, or sugar, or other substances including all dilutions of this substance.

203. “Alcoholic Beverage” is synonymous with the term “Liquor” as defined in Section 208 of this Chapter.

204. “Bar” means any establishment with special space and accommodations for sale by the glass and for consumption on the premises of any Liquor or alcoholic beverage, as herein defined.

205. “Low-Point Beer” means and includes beverages containing more than one-half of one percent (½ of 1%) alcohol by volume, and not more than three and two-tenths percent (3.2%) alcohol by weight, including but not limited to beer or cereal malt beverages obtained by the alcoholic fermentation of an infusion of barley or other grain, malt or similar. For the purpose of this title, any such beverage, including ale, stout, and porter, containing more than 3.2% alcohol by weight shall be referred to as “Strong Beer.”

206. “Executive Committee” as used herein means the body authorized by the Tribe's Governing Resolution to promulgate all Tribal ordinances and regulations.

207. “Council” means the Council of the Tribe, which comprises all individual members of the Tribe who are 18 years old or older.

208. “Liquor” includes the four varieties of Liquor herein defined (Alcohol, Spirits, Wine, and Strong Beer), but not including Low-Point Beer, and all fermented spirituous, vinous, or malt Liquor or combination thereof, and mixed Liquor, or otherwise intoxicating; and every liquid or solid or semisolid or other substance, patented or not, containing alcohol, spirits, wine or beer, and all drinks or drinkable liquids and all preparations or mixtures capable of human consumption and any liquid, semisolid, solid, or other substance, which contain more than one percent of alcohol by weight shall be conclusively deemed to be intoxicating.

209. “Liquor Store” means any store at which Liquor or Low-Point Beer is sold and, for the purposes of this Liquor Ordinance, includes stores only a portion of which are devoted to sale of Liquor or Low-Point Beer.

210. “Package” means any container or receptacle used for holding Liquor or Low-Point Beer.

211. “Public Place” includes State or county or Tribal or Federal highways or roads; buildings and grounds used for school purposes; public dance halls and grounds adjacent thereto; soft drink establishment; public buildings; public meeting halls; lobbies, halls and dining rooms of hotels, restaurants, theaters, gaming facilities, entertainment centers, store garages, and filling stations which are open to and/or are generally used by the public and to which the public is permitted to have unrestricted access; public conveyances of all kinds of character; and all other places of like or similar nature to which the general public has unrestricted right of access, and which are generally used by the public. For the purpose of this Liquor Ordinance, “Public Place” shall also include any establishment other than a single family home which is designed for or may be used by more than just the owner of the establishment.

212. ” Sale” and “Sell” include exchange, barter, and traffic and also include the selling or supplying or distributing by any means whatsoever, of Liquor or Low-Point Beer, or of any liquid known or described as beer or by any name whatsoever commonly used to describe malt or brewed Liquor or wine by any person to any person.

213. “Spirits” means any beverage which contains alcohol obtained by distillation including wines exceeding 17% of alcohol by weight.

214. “Tribe” means the Wichita and Affiliated Tribes.

215. “Tribal Lands” means the 5.0574 acres of land held in trust by the United States for the benefit of the Wichita and Affiliated Tribes upon which a gaming facility of the Tribe known as Sugar Creek Casino exists, whose address is 4200 North Broadway, Hinton, Oklahoma 73047, described as:

All Interest in Surface and Surface Rights Only in and to a tract of land lying in the Southwest Quarter (SW/4) of Section Ten (10), Township Twelve (12) North, Range Eleven (11) West of the Indian Meridian, Caddo County, Oklahoma, being particularly described as follows:

COMMENCING at a Railroad Spike found for corner of the Southeast corner of said Southwest Quarter (SW/4);

THENCE North 00°15′47″ West, along the East line of said Southwest Quarter (SW/4), a distance of 227.41 feet;

THENCE South 89°44′13″ West, a distance of 70.03 feet to the POINT OF BEGINNING, said point being on the West Right of Way line of U.S. Highway 281 located 75.00 feet West of the centerline of said Highway as set forth by the Easement to the State of Oklahoma recorded at Book 79, Page 185;

THENCE South 89°40′46″ West, perpendicular to said Right of Way line, a distance of 208.00 feet;

THENCE South 00°19′14″ East, parallel to said Right of Way line, a distance of 143.29 feet;

THENCE South 89°44′13″ West, perpendicular to the East line of said Southwest Quarter (SW/4), a distance of 292.50 feet;

THENCE North 00°15′47″ West, parallel to said East line, a distance of 500.00 feet;

THENCE North 89°44′13″ East, a distance of 500.00 feet to a point on said West Right of Way line;

THENCE South 00°19′14″ East, along said West Right of Way line, a distance of 356.50 feet to the POINT OF BEGINNING.

Said tract of land containing 220,299 square feet or 5.0574 acres, more or less.

216. “Trust Agent” means the Tribal Tax Commission or his or her designee.

217. “Wine” means any alcoholic beverage obtained by fermentation of fruits (grapes, berries, apples, etc.) or other agricultural product containing sugar, to which any saccharine substances may have been added before, during or after fermentation, and containing not more than seventeen percent (17%) of alcohol by weight, including sweet wines fortified with wine spirits such as port, sherry, muscatel and angelica, not exceeding seventeen percent (17%) of alcohol by weight.

Powers of Enforcement

301. Powers. The Executive Committee, in furtherance of this Liquor Ordinance, shall have the following powers and duties:

a. To publish and enforce the rules and regulations governing the sale, manufacture, and distribution of Alcoholic Beverages and Low-Point Beer on Tribal Land;

b. To employ managers, accountants, security personnel, inspectors, and such other persons as shall be reasonably necessary to allow the Executive Committee to perform its functions; provided that all such employees shall be Tribal employees;

c. To issue licenses permitting the sale or manufacture or distribution of Liquor and Low-Point Beer within the Tribal Lands;

d. To hold hearings on violations of this Liquor Ordinance or for the issuance or revocation of licenses hereunder pursuant to Section VI;

e. To bring suit in the appropriate court to enforce this Liquor Ordinance as necessary;

f. To determine and seek damages for violation of this Liquor Ordinance;

g. To make reports to the Council;

h. To collect taxes and fees levied or set by the Executive Committee, and to keep accurate records, books, and accounts;

i. To exercise such other powers as authorized by Tribal law including the Governing Resolution; and

j. To delegate authorities under this Liquor Ordinance to Subcommittees, Commissions, or Boards.

302. Limitation on Powers. In the exercise of its powers and duties under this Liquor Ordinance, the Executive Committee and its individual members shall not accept any gratuity, compensation or other thing of value from any Liquor or Low-Point Beer wholesaler, retailer, or distributor or from any licensee.

303. Inspection Rights. The premises on which Liquor or Low-Point Beer is sold or distributed shall be open for inspection by the Executive Committee or its designee at all reasonable times, which includes the hours the business is open to the public, for the purposes of ascertaining whether this Liquor Ordinance and the rules and regulations implementing this Liquor Ordinance are being followed.

Sales of Liquor or Low-Point Beer

401. Tribal Liquor or Low-Point Beer License Required; Tribally Owned Businesses. No sales of Alcoholic Beverages or Low-Point Beer shall be made on Tribal Land, except at a Tribally licensed or Tribally owned business. Nothing in this section shall prohibit a Tribal licensee or the Tribe from purchasing Liquor or Low-Point Beer from a source outside the Tribe's jurisdiction for resale on Tribal Lands or the delivery to the Tribe or a Tribal licensee of Liquor or Low-Point Beer purchased from sources outside Tribal Lands for resale within the Tribal Lands. Each location shall obtain and maintain a Tribal license from the Executive Committee, or its designee, for the sale of Liquor or Low-Point Beer. Such license may be for the sale of Liquor or Low-Point Beer for off-premises or on-premises consumption.

402. Sale only on Tribal Land. All Liquor and Low-Point Beer Sales shall be on Tribal Land, including leases thereon.

403. Sales for Cash. All Liquor and Low-Point Beer sales shall be on a cash only basis and no credit shall be extended to any person, organization, or entity, except that this provision does not prevent the use of ATM cards, debit cards, or major credit cards.

404. Sale for Personal Consumption. All sales shall be for the personal use and consumption of the purchaser. Resale of any Alcoholic Beverage or Low-Point Beer purchased within the Tribal Lands is prohibited. Any person who is not licensed pursuant to this Liquor Ordinance who purchases an Alcoholic Beverage or Low-Point Beer on Tribal Land and sells it, whether in the original container or not, shall be guilty of a violation of this Liquor Ordinance and shall be subject to paying damages to the Tribe as set forth herein.

Licensing

501. Tribal Liquor and Low-Point Beer License Requirements. No Tribal license shall be issued under this Liquor Ordinance except upon a sworn application filed with the Executive Committee or its designee containing a full and complete showing of the following:

a. Satisfactory proof that the applicant is or will be duly licensed by the State of Oklahoma to sell Alcoholic Beverages or Low-Point Beer, whichever is applicable;

b. Satisfactory proof that the applicant is of good character and reputation and that the applicant is financially responsible;

c. The description of the premises in which the Alcoholic Beverages or Low-Point Beer are to be sold and proof that the applicant is the owner of such premises or the lessee of such premises for at least the term of the license;

d. Agreement by the applicant to accept and abide by all conditions of the Tribal license;

e. Payment of a fee established from time to time by the Executive Committee. Said fee is established initially at $1,250.00 but can be changed by Executive Committee resolution at any time; and

f. Satisfactory proof that neither the applicant, nor the applicant's spouse, nor any principal owner, officer, shareholder, or director of the applicant, if an entity, has ever been convicted of a felony or a crime of moral turpitude.

502. Hearing on Application for Tribal Liquor or Low-Point Beer License. All applications for a Tribal Liquor or Low-Point Beer license shall be considered by the Executive Committee or its designee in open session at which the applicant, his, her or its attorney, and any person protesting the application shall have the right to be present, and to offer sworn oral or documentary evidence relevant to the application. After the hearing, the Executive Committee shall determine whether to grant or deny the application based on: (1) Whether the requirements of section 501 have been met; and (2) whether the Executive Committee or its designee, in its discretion, determines that granting the license is in the best interest of the Tribe. In the event that the applicant is a member of the Executive Committee, or the applicant is a member of the immediate family of an Executive Committee member, such Executive Committee member shall not vote on the application or participate in the application hearing as an Executive Committee member.

503. Temporary Permits. The Executive Committee or its designee may grant a temporary permit for the sale of Liquor or Low-Point Beer for a period not to exceed three (3) days to any person applying to the same in connection with a Tribal or community activity, provided that the conditions prescribed in Section 504 of this Liquor Ordinance shall be observed by the permittee. Each permit issued shall specify the types of intoxicating beverages to be sold. Further, a fee of $150.00 will be assessed on temporary permits.

504. Conditions of a Tribal Liquor or Low-Point Beer License. Any Tribal Liquor or Low-Point Beer license issued under this Liquor Ordinance shall be subject to such reasonable conditions as the Executive Committee or its designee shall fix including but not limited to the following:

a. The license shall be for a term not to exceed one (1) year.

b. The licensee shall at all times maintain an orderly, clean, and neat establishment, both inside and outside the licensed premises.

c. The licensed premises shall be subject to patrol by Tribal law enforcement personnel and such other law enforcement officials as may be authorized under Federal, Oklahoma, or Tribal law.

d. The licensed premises shall be open to inspection by duly authorized Tribal officials at all times during the regular business hours.

e. Subject to the provisions of subsection “g” of this section, no Liquor or Low-Point Beer shall be sold, served, disposed of, delivered, or given to any person, or consumed on the licensed premises except in conformity with the hours and days prescribed by the laws of the State of Oklahoma, and in accordance with the hours fixed by the Executive Committee, provided that the licensed premises shall not operate or open earlier, or operate or close later, than is permitted by the laws of the State of Oklahoma.

f. No Liquor shall be sold within 200 feet of a polling place on Tribal election days, or when a referendum is held of the people of the Tribe, and including special days of observation as designated by the Executive Committee.

g. All acts and transactions under authority of the Tribal Liquor and Low-Point Beer license shall be in conformity with the laws of the State of Oklahoma, with this Liquor Ordinance, with any applicable Tribal rules and regulations, and with any Tribal Liquor or Low-Point Beer license issued pursuant to this Liquor Ordinance.

h. No person under the age permitted under the laws of the State of Oklahoma shall be sold, served, delivered, given, or allowed to consume Alcoholic Beverages in the licensed establishment or area.

i. There shall be no discrimination in the operations under the Tribal license by reason of sex, race, color, or creed, provided that Tribal licensees may adopt Tribal or Indian preference policies.

505. License Not a Property Right. Notwithstanding any other provision of this Liquor Ordinance, a Tribal Liquor or Low-Point Beer license is a mere permit for a fixed duration of time. A Tribal Liquor or Low-Point Beer license shall not be deemed a property right or vested right of any kind, nor shall the granting of a Tribal Liquor or Low-Point Beer license give rise to a presumption of legal entitlement to a license or permit in a subsequent time period.

506. Assignment or Transfer. No Tribal license issued under this Liquor Ordinance shall be assigned or transferred without the prior written approval of the Executive Committee expressed by formal resolution.

Civil Violations

601. Sale or Possession With Intent to Sell Without a Permit. Any person who shall sell or offer for sale or distribute or transport in any manner, any Liquor or Low-Point Beer in violation of this Liquor Ordinance, or who shall operate or shall have Liquor or Low-Point Beer in his or her possession with intent to sell or distribute without a license or permit, shall be guilty of a violation of this Liquor Ordinance.

602. Purchases From Other Than Licensed or Allowed Facilities. Any person who, within the Tribal Lands, buys Liquor or Low-Point Beer from any person other than at a properly licensed or allowed facility shall be guilty of a violation of this Liquor Ordinance.

603. Sales to Persons Under the Influence of Liquor or Low-Point Beer. Any person who sells Liquor to a person apparently under the influence of Liquor or Low-Point Beer shall be guilty of a violation of this Liquor Ordinance.

604. Consuming Liquor in Public Conveyance. Any person engaged wholly or in part in the business of carrying passengers for hire, and every agent, servant or employee or such person who shall knowingly permit any person to drink any Liquor or Low-Point Beer in any public conveyances shall be guilty of an offense. Any person who shall drink any Liquor in a public conveyance shall be guilty of a violation of this Liquor Ordinance.

605. Consumption or Possession of Liquor or Low-Point Beer by Persons Under 21 Years of Age. No person under the age of 21 years shall consume, acquire, or have in his or her possession any Liquor or Low-Point Beer. No person shall permit any other person under the age of 21 to consume Liquor or Low-Point Beer on his or her premises or any premises under his or her control except in those situations set out in this section. Any person violating this section shall be guilty of a separate violation of this Liquor Ordinance for each and every drink so consumed.

606. Sales of Liquor or Low-Point Beer to Persons Under 21 Years of Age. Any person who shall sell or provide Liquor or Low-Point Beer to any person under the age of 21 years shall be guilty of a violation of this Liquor Ordinance for each sale or drink provided.

607. Transfer of Identification to Minor. Any person who transfers in any manner an identification of age to a minor for the purpose of permitting such minor to obtain Liquor or Low-Point Beer shall be guilty of an offense; provided, that corroborative testimony of witness other than the minor shall be a requirement of finding a violation of this Liquor Ordinance.

608. Use of False or Altered Identification. Any person who attempts to purchase an Alcoholic Beverage or Low-Point Beer through the use of a false or altered identification shall be guilty of violating this Liquor Ordinance.

609. Acceptable Identification. Where there may be a question of a person's right to purchase Liquor or Low-Point Beer by reason of his or her age, such person shall be required to present any one of the following cards of identification which shows his or her correct age and bears his or her signature and photograph: (1) A driver's license of any State or identification card issued by any State department of motor vehicles; (2) United States active duty military; (3) a passport, or (4) a Tribal enrollment or identification card issued by any Federally recognized Indian Tribe.

610. Violations of this Liquor Ordinance. Any person guilty of a violation of this Ordinance shall be liable to pay the Tribe a civil fine not to exceed $1,000 per violation as civil damages to defray the Tribe's cost of enforcement of this Liquor Ordinance. In addition to any penalties so imposed, any license or permit issued hereunder may be suspended or canceled by the Executive Committee for the violation of any of the provisions of this Liquor Ordinance, or of the Tribal license or permit, upon hearing before the Executive Committee after ten (10) days' notice to the licensee. The decision of the Executive Committee shall be final and no appeal therefrom is allowed. Notice of an Executive Committee hearing regarding an alleged violation of this Ordinance shall be given to the affected individual(s) or entities at least ten (10) days in advance of the hearing. The notice will be delivered in person or by certified mail with the Executive Committee retaining proof of service. The notice will set out the right of the alleged violation to be represented by Counsel retained by the alleged violator, the right to speak and to present witnesses and to cross examine any witnesses against them.

611. Possession of Liquor or Low-Point Beer Contrary to This Liquor Ordinance. Liquor or Low-Point Beer possessed contrary to the terms of this Liquor Ordinance are declared to be contraband. Any Tribal agent, employee, or officer who is authorized by the Executive Committee to enforce this section shall have the authority to, and shall, seize all contraband.

612. Disposition of Seized Contraband. Any officer seizing contraband shall preserve the contraband in accordance with appropriate law. Upon being found in violation of this Liquor Ordinance by the Executive Committee, the party shall forfeit all right, title and interest in the items seized which shall become the property of the Tribe.

Taxes

701. Sales Tax. There is hereby levied and shall be collected a tax on each sale of Alcoholic Beverages or Low-Point Beer on Tribal Land in the amount determined by the Executive Committee. The tax imposed by this section shall apply to all retail sales of Liquor or Low-Point Beer on Tribal Lands and shall preempt any tax imposed on such Liquor or Low-Point Beer sales by the State of Oklahoma.

702. Payment of Taxes to Tribe. All taxes from the sale of Alcoholic Beverages or Low-Point Beer on Tribal Lands shall be paid over to the Trust Agent of the Tribe.

703. Taxes Due. All taxes from the sale of Alcoholic Beverages and Low-Point Beer on Tribal Lands are due within thirty (30) days of the end of the calendar quarter for which the taxes are due.

704. Reports. Along with payment of the taxes imposed herein, the taxpayer shall submit an accounting for the quarter of all income from the sale or distribution of Alcoholic Beverages and Low-Point Beer as well as for the taxes collected.

705. Audit. As a condition of obtaining a license, the licensee must agree to the review or audit of its books and records relating to the sale of Alcoholic Beverages and Low-Point Beer on Tribal Lands. Said review or audit may be done annually by the Tribe through its agents or employees whenever, in the opinion of the Executive Committee, such a review or audit is necessary to verify the accuracy of reports.

Profits

801. Disposition of Proceeds. The gross proceeds collected by the Executive Committee from all licensing provided under this Liquor Ordinance, or the imposition of civil penalties for violating this Ordinance, or from the taxation of the sales of Alcoholic Beverages and Low-Point Beer on Tribal Lands, shall be distributed as follows:

a. For the payment of all necessary personnel, administrative costs, and legal fees for the operation and its activities.

b. The remainder shall be turned over to the Trust Agent.

Severability and Miscellaneous

901. Severability. If any provision or application of this Liquor Ordinance is determined upon review by a court of competent jurisdiction to be invalid, such adjudication shall not be held to render ineffectual the remaining portions of this Ordinance or to render such provisions inapplicable to other persons or circumstances.

902. Prior Enactments. Any and all prior ordinances, resolutions or enactments of the Executive Committee which are inconsistent with the provisions of this Liquor Ordinance are hereby repealed.

903. Conformance with Tribal, State, and Federal Law. This Ordinance conforms with all Tribal law and governing documents. All provisions and transactions under this Ordinance shall be in conformity with Oklahoma State law regarding the sale of Alcoholic Beverages and Low-Point Beer to the extent required by 18 U.S.C. § 1161, provided that § 1161 shall not be deemed to waive Tribal sovereign immunity in any respect, and with all Federal laws regarding alcohol in Indian country.

904. Enforcement. All actions brought by the Executive Committee to enforce the provisions of this Ordinance shall be filed in the Court of Indian Offenses for the Wichita and Affiliated Tribes, or such Tribal court as may be established in its place, which shall have exclusive jurisdiction over the enforcement and interpretation of this Ordinance.

905. Effective Date. This Ordinance becomes effective as of the date the Secretary of the Interior certifies the Ordinance and publishes it in the Federal Register.

Amendment

1001. Amendment or Repeal. This Ordinance may be amended or repealed by a majority vote of the Executive Committee. Amendments of this Ordinance will be published in the Federal Register to become effective.

Sovereign Immunity

1101. Nothing contained in this Liquor Ordinance is intended to nor does in anyway limit, alter, restrict, or waive the Tribe's sovereign immunity from unconsented suit or action. Tribal Liquor and Low-Point Beer licensees entitled to assert the defense of Tribal sovereign immunity shall not be deemed to have waived that immunity in any dram-shop action in any court whether Tribal, Federal, or State.

Dram-Shop Actions

1201. The Court of Indian Offense for the Wichita and Affiliated Tribes, or such Tribal court as may be established in its place, shall have exclusive jurisdiction over any dram-shop action against a Tribal Liquor or Low-Point Beer licensee.

[FR Doc. 2010-18319 Filed 7-26-10; 8:45 am]

BILLING CODE 4310-4J-P